DEPARTMENT OF JUSTICE

Drug Enforcement Administration

James E. Thomas, M.D., Revocation of Registration

On April 29, 2004, the Deputy Assistant Administrator, Office of Diversion Control, Drug Enforcement Administration (DEA), issued an Order to Show Cause to James E. Thomas, M.D. (Dr. Thomas) of Troy, Alabama, notifying him of an opportunity to show cause as to why DEA should not revoke his DEA Certificate of Registration AT7586829, as a practitioner, under 21 U.S.C. 824(a)(3) and deny any pending applications for renewal or modification of that registration pursuant to 21 U.S.C. 823(f). As a basis for revocation, the Order to Show Cause alleged that Dr. Thomas is not currently authorized to practice medicine or handle controlled substances in Alabama, his State of registration and practice. The Order to Show Cause also notified Dr. Thomas that should no request for a hearing be filed within 30 days, his hearing right would be deemed waived.

The Order to Show Cause was sent by certified mail to Dr. Thomas at his address of record at P.O. Drawer 947, Suite 2, Highway 231, Troy, Alabama. That correspondence was returned marked “Not Deliverable as Addressed—Unable to Forward.” It was then determined the local DEA office had sent three registered letters to Dr. Thomas' home and office addresses and all had been returned marked “unforwardable.” Further, the State of Alabama, Medical Licensure Commission (Alabama Commission) had tried to contact Dr. Thomas without success. The Deputy Administrator finds reasonable efforts to contact and serve Dr. Thomas with the Order to Show Cause have been made and DEA has not received a request for hearing or any other reply from Dr. Thomas or anyone purporting to represent him in this matter.

Therefore, the Deputy Administrator, finding (1) 30 days have passed since DEA's attempt to serve the Order to Show Cause at the registered location and that good faith efforts to locate Dr. Thomas have failed and (2) no request for a hearing having been received, concludes that Dr. Thomas is deemed to have waived his hearing right, See Steven A. Barnes, M.D., 69 FR 51,474 (2004); David W. Linder, 67 FR 12,579 (2002). After considering material from the investigative file, the Deputy Administrator now enters her final order without a hearing pursuant to 21 CFR 1301.43(d) and (e) and 1301.46.

The Deputy Administrator finds Dr. Thomas currently possesses DEA Certificate of Registration AT7586829, which expires on November 30, 2005. The Deputy Administrator further finds that on June 16, 2003, the Alabama Commission issued an Order revoking Dr. Thomas' license to practice medicine in Alabama. The suspension was based upon findings of fact, inter alia, that Dr. Thomas committed professional misconduct and “is unable to practice medicine with reasonable skill and safety to patients by reason of illness, inebriation, excessive use of drugs, narcotics, alcohol, chemicals or other substances * * * ”

The investigative file contains no evidence the Alabama Commission's Order has been stayed, modified or terminated or that Dr. Thomas' medical license has been reinstated. Therefore, the Deputy Administrator finds Dr. Thomas is not currently authorized to practice medicine in the State of Alabama. As a result, it is reasonable to infer he is also without authorization to handle controlled substances in that State.

DEA does not have statutory authority under the Controlled Substances Act to issue or maintain a registration if the applicant or registrant is without State authority to handle controlled substances in the State in which he conducts business. See 21 U.S.C. 802(21), 823(f) and 824(a)(3). This prerequisite has been consistently upheld. See Stephen J. Graham, M.D., 69 FR 11,661 (2004); Dominick A. Ricci, M.D., 58 FR 51,104 (1993); Bobby Watts, M.D., 53 FR 11,919 (1988).

Here, it is clear Dr. Thomas' medical license has been revoked and he is not currently licensed to handle controlled substances in Alabama, where he is registered with DEA. Therefore, he is not entitled to a DEA registration in that State.

Accordingly, the Deputy Administrator of the Drug Enforcement Administration, pursuant to the authority vested in her by 21 U.S.C. 823 and 824 and 28 CFR 0.100(b) and 0.104, hereby orders that DEA Certificate of Registration AT7586829, issued to James E. Thomas, M.D., be, and it hereby is, revoked. The Deputy Administrator further orders that any pending applications for renewal of such registration be, and they hereby are, denied. This order is effective February 24, 2005.

Dated: December 30, 2004.
Michele M. Leonhart,
Deputy Administrator.

[FR Doc. 05-1325 Filed 1-24-05; 8:45 am]

BILLING CODE 4410-09-M